DEPARTMENT OF DEFENSE

48 CFR Part 206

[DFARS Case 2003-D017]

Defense Federal Acquisition Regulation Supplement; Competition Requirements; Correction

AGENCY: Department of Defense (DoD).

ACTION: Correction to final rule.

SUMMARY: DoD is issuing a correction to the final rule published at 69 FR 74990-74991 on December 15, 2004, pertaining to competition requirements. The correction shows that the change to 48 CFR part 206, section 206.001, revises only paragraph (b) of section 206.001.

Effective Dates: December 15, 2004.

FOR FURTHER INFORMATION CONTACT: Ms. Michele Peterson, Defense Acquisition Regulations System, OUSD(AT&L)DPAP(DAR), IMD 3C132, 3062 Defense Pentagon, Washington, DC 20301-3062. Telephone (703) 602-0311; facsimile (703) 602-0350.

Correction

PART 206—[CORRECTED]

In the issue of Wednesday, December 15, 2004, on page 74991, in the second column, amendatory instruction 2 is corrected to read as follows:

2. Section 206.001 is revised to read as follows:

206.001 Applicability.

(b) As authorized by 10 U.S.C. 1091, contracts awarded to individuals using the procedures at 237.104(b)(ii) are exempt from the competitive requirements of FAR part 6.

(S-70) Also excepted from this part are follow-on production contracts for products developed pursuant to the “other transactions” authority of 10 U.S.C. 2371 for prototype projects when—

(1) The other transaction agreement includes provisions for a follow-on production contract;

(2) The contracting officer receives sufficient information from the agreements officer and the project manager for the prototype other transaction agreement, which documents that the conditions set forth in 10 U.S.C. 2371 note, subsections (f)(2) (A) and (B) (see 32 CFR 3.9(d)), have been met; and

(3) The contracting officer establishes quantities and prices for the follow-on production contract that do not exceed the quantities and target prices established in the other transaction agreement.

Michele P. Peterson,
Editor, Defense Acquisition Regulations System.

[FR Doc. 05-760 Filed 1-12-05; 8:45 am]

BILLING CODE 5001-08-P